FEDERAL COMMUNICATIONS COMMISSION

47 CFR Part 52

[WC Docket No. 18-336; FCC 24-45; FR ID 221857]

National Suicide Hotline Act of 2018

AGENCY: Federal Communications Commission.

ACTION: Proposed rule.

SUMMARY: In this document, the Federal Communications Commission (Commission) proposes to require wireless carriers to implement one or more georouting solutions for calls to the 988 Suicide & Crisis Lifeline to ensure that calls are routed based on the geographic location for the origin of the call, rather than the area code and exchange associated with a wireless phone. The Commission also seeks comment on a variety of issues related to the implementation of a georouting solution for wireless calls, non-wireless calls, and text messages to the 988 Suicide & Crisis Lifeline.

DATES: Comments are due on or before June 28, 2024, and reply comments are due on or before July 29, 2024. Written comments on the Paperwork Reduction Act proposed information collection requirements must be submitted by the public, Office of Management and Budget (OMB), and other interested parties on or before July 29, 2024.

ADDRESSES: Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998). You may submit comments, identified by WC Docket No. 18-336, by any of the following methods:

• Electronic Filers: Comments may be filed electronically using the internet by accessing the ECFS: http://apps.fcc.gov/ecfs/.

• Paper Filers: Parties who choose to file by paper must file an original and one copy of each filing.

• Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Until further notice, the Commission no longer accepts any hand or messenger delivered filings. See FCC Announces Closure of FCC Headquarters Open Window and Change in Hand-Delivery Policy, Public Notice, DA 20-304 (March 19, 2020), https://www.fcc.gov/document/fcc-closes-headquarters-open-window-and-changes-hand-delivery-policy.

• Confidentiality: Some information and materials requested by this FNPRM may be confidential and proprietary. Individuals and entities may request that confidential and proprietary information submitted to the Commission be withheld from public inspection consistent with § 0.459 of the Commission's rules.

• People with Disabilities: To request materials in accessible formats for people with disabilities (braille, large print, electronic files, audio format), send an email to fcc504@fcc.gov or call the Consumer & Governmental Affairs Bureau at (202) 418-0530 (voice), (202) 418-0432 (TTY).

FOR FURTHER INFORMATION CONTACT: Merry Wulff, Attorney Advisor, Competition Policy Division, Wireline Competition Bureau, at MerryWulff@fcc.gov or at (202) 418-1084. For additional information concerning the Paperwork Reduction Act proposed information collection requirements contained in this document, send an email to PRA@fcc.gov or contact Nicole Ongele, Nicole.Ongele@fcc.gov.

SUPPLEMENTARY INFORMATION: This is a summary of the Commission's Second Further Notice of Proposed Rulemaking (FNPRM) in WC Docket No. 18-336, FCC 24-45, adopted April 25, 2024, and released April 26, 2024. The full text of this document is available for public inspection at the following internet address: https://docs.fcc.gov/public/attachments/FCC-24-45A1.pdf.

Ex Parte Rules

This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Regulatory Flexibility Act

The Regulatory Flexibility Act of 1980, as amended (RFA) requires that an agency prepare a regulatory flexibility analysis for notice and comment rulemakings, unless the agency certifies that “the rule will not, if promulgated, have a significant economic impact on a substantial number of small entities.” Accordingly, the Commission has prepared an Initial Regulatory Flexibility Analysis (IRFA) concerning the possible impact of the potential rule and policy changes contained in this FNPRM. The Commission invites the general public, particularly small businesses, to comment on the IRFA. Comments must be filed by the deadlines for comments on the FNPRM indicated on the first page of this document and must have a separate and distinct heading designating them as responses to the IRFA and must be filed in WC Docket No. 18-336.

Paperwork Reduction Act

This document may contain proposed new or revised information collection requirements. The Commission, as part of its continuing effort to reduce paperwork burdens, invites the general public and the Office of Management and Budget (OMB) to comment on the information collection requirements contained in this document, as required by the Paperwork Reduction Act of 1995, Public Law 104-13. In addition, pursuant to the Small Business Paperwork Relief Act of 2002, Public Law 107-198, see 44 U.S.C. 3506(c)(4), the Commission seeks specific comment on how it might further reduce the information collection burden for small business concerns with fewer than 25 employees.

Providing Accountability Through Transparency Act

The Providing Accountability Through Transparency Act, Public Law 118-9, requires each agency, in providing notice of a rulemaking, to post online a brief plain-language summary of the proposed rule. The required summary of this FNPRM is available at https://www.fcc.gov/proposedrulemakings.

Synopsis

1. In this FNPRM, we continue the Commission's work to provide meaningful access to the 988 Lifeline by proposing that we adopt rules requiring wireless carriers to implement a georouting solution for calls to the 988 Lifeline. We acknowledge and commend the work that the Substance Abuse and Mental Health Services Administration (SAMHSA) and Vibrant Emotional Health (Vibrant or Lifeline Administrator) have done to date to explore and test solutions, and seek to build on that effort by developing a record that will clarify the georouting solutions that have been proposed, establish the work that remains for a solution to be deployed on wireless networks, and help us consider how to proceed towards requiring wireless carriers to implement one or more solutions. In so doing, we acknowledge that any georouting solution for 988 will require cooperation between the wireless carriers originating calls and the Lifeline Administrator that controls the call routing platform that receives them to implement a complete end-to-end solution. We, therefore, undertake a holistic review to ensure that any georouting solution deployed is compatible with the needs and systems of the 988 Lifeline, as determined by SAMHSA, and successfully connects callers in crisis with the local support they need.

Background

How Calls to 988 Are Currently Routed

2. Under current Commission rules, calls to 988 must first be routed to the existing toll free ten-digit access number for the 988 Lifeline (1-800-273-8255). When the Commission established 988, it found that such routing would be the most efficient means to enable 988 callers to reach the existing national suicide prevention hotline, and explained that routing to the 988 Lifeline's toll free number provided “considerable benefits” both for covered providers and the 988 Lifeline itself, which would enable faster implementation, lower costs to maintain 988 routing, and better service. Calls to the 988 Lifeline's toll free access number are terminated to a single aggregation point, specifically, an interactive voice response (IVR) where callers are provided with a menu of connection options. Veterans, service members, and their families may connect to the Veterans Crisis Line operated by the Department of Veterans Affairs by pressing “1.” Callers may also reach a Spanish language line by pressing “2” and specialized LGBTQI+ services by pressing “3”. All other calls are routed to one of over 200 regional crisis centers based on the area code and exchange of the caller's telephone number supplied by the originating service provider. In the event that a center is unable to answer, the call is routed to the Lifeline's national backup network. Routing to the appropriate crisis call center is handled by a centralized routing system overseen by the Lifeline Administrator and supported by a grant from SAMHSA.

Initial Efforts To Improve Routing for Calls to 988 From Wireless Phones

3. On April 15, 2021, the Wireline Competition Bureau transmitted a report to Congress examining the feasibility and costs of including automatic dispatchable location in calls to 988, as required by the National Suicide Designation Act of 2020. While the statute required the Commission to focus on location information conveyed with a 988 call, regardless of the technological platform used, the record developed for the preparation of the report evidenced an important distinction in how a caller's location can impact not only dispatchable location but also the routing path of the call to the most geographically appropriate crisis center (i.e., georouting).

4. Georouting refers to technical solutions for directing calls based on a geographic location for the origin of the call without transmitting information about the caller's precise location. For example, calls to various N11 services, such as 211, 311, 511, and 811, are routed to call centers based on the geographic location of the cell tower that originates the call. By contrast, geolocation involves creating systems for the transmission of precise location information (e.g., street address) of the caller that could be provided to first responders. As the Bureau's report to Congress highlighted, transmitting precise location information with calls to the 988 Lifeline presents a variety of technical, legal, and privacy concerns that would require significant investigation and time to resolve. For example, we recently adopted rules requiring CMRS providers to use device location information to route wireless 911 voice calls and real-time text (RTT) communications to 911, rather than the location of network elements such as cell cite or sector. The legal, technical, and privacy considerations of using precise location to route wireless 911 calls differ from those in the 988 context.

5. On May 24, 2022, the Commission, in coordination with the U.S. Department of Health and Human Services and the U.S. Department of Veterans Affairs, convened a forum on the challenges and opportunities related to geolocation for calls to the 988 Lifeline. During that forum, Intrado, a provider of public safety-related software systems and services, proposed a cell-based georouting solution to connect calls to 988 with local crisis call centers irrespective of a wireless phone's area code. The solution it presented would involve the creation of a database that would match the cell tower originating the call to 988 with a ten-digit phone number associated with the nearest crisis center. That ten-digit number would then be used to route the call to a geographically appropriate crisis center rather than the area code and exchange for the caller's wireless phone.

6. Following the forum, Commission staff, SAMHSA, and the Lifeline Administrator engaged in regular discussions regarding the proposed Intrado solution and other efforts that may lead to more accurate routing of wireless calls to the 988 Lifeline. In June 2023, SAMHSA, the Lifeline Administrator, Intrado Life & Safety, and a wireless carrier began a proof of concept to test a modified version of Intrado's original cell-based georouting solution in a lab environment, i.e., without using any actual caller data from live calls. The modified solution also relied on cell tower information, but routed calls by “overlay[ing] static wire center boundaries to create a `destination code' representing the nearest crisis call center.” Commission staff regularly received briefings concerning the proof of concept, provided technical assistance and guidance in response to questions asked during those briefings, and received progress reports.

7. The proof of concept was completed during the summer of 2023 and resulted in calls being successfully routed in the testing environment from wireless handsets to the nearest crisis center irrespective of the area code associated with the handset. To build on that success, on September 28, 2023, the Chairwoman and HHS Assistant Secretary for Mental Health and Substance Use Dr. Miriam Delphin-Rittmon sent letters to AT&T, T-Mobile USA, Inc., Verizon, CTIA, Competitive Carriers Association (CCA), and Rural Wireless Association (RWA) urging wireless carriers to take the necessary steps to identity and develop a 988 georouting solution that could be deployed in their wireless networks. Commission staff subsequently held meetings with each recipient of the letters to discuss what steps have been taken in response to the Chairwoman's letters as well as any identified concerns in implementing a georouting solution. Commission staff also inquired about possible timeframes and what the Commission could do to support or assist the wireless industry's efforts.

Discussion

8. We seek to build on the progress made by all stakeholders to date to identify a georouting solution for the 988 Lifeline that will enhance the support and resources available to callers in crisis. Specifically, we propose to adopt a rule that would require wireless carriers to implement one or more georouting solutions for calls to the 988 Lifeline, and initiate this FNPRM to thoroughly and transparently consider georouting solutions that could be within the scope of that mandate, the costs and benefits of mandating a georouting solution, and the work that remains to implement a georouting solution in a timely manner. As discussed above, we reiterate that the proposals herein pertain to georouting solutions. We are not considering solutions to geolocation for the 988 Lifeline at this time.

Need To Mandate Georouting for Wireless Calls to the 988 Lifeline

9. We believe that requiring wireless carriers to use a georouting solution for the 988 Lifeline is essential to ensure that Americans have access to critical suicide prevention and crisis services when reaching the 988 Lifeline with a wireless device. Indeed, the record developed for the preparation of the 988 Geolocation Report evidenced a need for more accurate routing of calls to the 988 Lifeline to account for the fact that the majority of calls placed to the 988 Lifeline are from wireless phones, and the area codes of those phones often do not correspond to the location of the caller. The broader 988 record also indicated that such discrepancies may be more prevalent among certain groups, such as college students and individuals with ported numbers. According to mental health and crisis counseling experts, ensuring that calls are routed to a crisis center that is geographically appropriate based on the caller's location (rather than the area code of their phone) is critical to the 988 Lifeline's objective of providing life-saving resources to those in need of public health and safety resources. Routing individuals in crisis to local crisis centers also allows counselors to respond to regional cultural and economic factors as well as a community's unique stressors. Moreover, local crisis centers have important connections to local care resources that, when used, can reduce the risk of suicidality and future crises, and avert unnecessary use of emergency services and law enforcement.

10. We, therefore, seek comment on our proposal to mandate the use of one or more georouting solutions by wireless carriers originating calls to the 988 Lifeline to achieve these benefits. Some major stakeholders have already been exploring georouting solutions with SAMHSA and the Lifeline Administrator, and we support voluntary efforts by carriers and our federal partners to deploy solutions in wireless networks in the near term. Indeed, we would welcome insights from wireless carriers that voluntarily deploy georouting solutions in their networks, as such information would inform our decision-making. The launch of this proceeding reflects our belief that a rule requiring wireless carriers to implement a georouting solution for the 988 Lifeline is necessary to ensure that the critical benefits of georouting are realized nationwide and within a reasonable period of time. We seek comment on that view and whether there would be any negative impacts to mandating the use of georouting solutions to connect callers to the 988 Lifeline with local crisis centers. We ask that commenters address any policy considerations or facts we should consider to evaluate whether a rule establishing a georouting mandate is needed.

Potential Georouting Solutions for Wireless Calls to the 988 Lifeline

11. We seek comment on potential georouting solutions for the 988 Lifeline. As noted above, Intrado proposed one potential solution during the May 2022 Geolocation Forum. SAMHSA, the Lifeline Administrator, Intrado Life & Safety, and a wireless carrier subsequently tested a modified georouting solution during the proof of concept completed during the summer of 2023. Since then, additional major carriers have voluntarily begun work to develop additional georouting solutions with SAMHSA and the Lifeline Administrator that may take different approaches to routing calls to crisis centers. We seek comment from wireless carriers on the viability of these and any other solutions that have been proposed to date, and the work that still needs to be done to timely deploy one or more of the solutions on wireless networks. We also seek data, documents, and other information that provide details about the current status of all proposed georouting solutions. In so doing, we invite stakeholders to comment on whether georouting solutions that have been developed to date by major carriers would be viable for smaller carriers, and any distinctions that need to be considered for smaller carriers when mandating the use of a georouting solution for the 988 Lifeline.

12. Technical Specifications. We seek information on the technical specifications for all proposed solutions, documented or otherwise, and diagrams showing how each solution would route wireless calls to the 988 Lifeline and/or a description of the same. We also seek technical specifications and diagrams showing how wireless calls would be routed to geographically appropriate call centers once received by the routing platform administered by the Lifeline Administrator. Specifically, we seek comment on each functional step that would need to be completed to successfully route a call from a wireless carrier to a geographically appropriate crisis center, the specific entity that would or could perform each function, and the facilities and systems required to perform each function. For example, are there any parties beyond the wireless carriers originating the calls and the Lifeline Administrator responsible for terminating the calls that would need to perform any function, or provide any facility or service, for a call to be appropriately routed pursuant to a proposed solution? What specific functions would the Lifeline Administrator and/or its service providers need to perform to successfully terminate calls to geographically appropriate crisis centers once received by the 988 Lifeline's centralized routing platform? What specific facilities and systems would be needed to perform those functions? We ask that commenters address whether the technical and functional requirements of a particular georouting solution present legal or other barriers that could limit the adoption of the solution by other entities, and whether there are means to surmount or minimize those barriers. For instance, do any of the functional steps of a georouting solution involve proprietary elements that would limit whether and how other wireless carriers could implement it (e.g., by requiring a service or licensing agreement and/or paying a fee)? Lastly, it is our understanding that when a caller to the 988 Lifeline selects a specialized service (e.g., “1” for Department of Veterans Affairs; “2” for a Spanish language line; or “3” for specialized LGBTQI+ services) when connected to the 988 Lifeline's IVR, those calls will be directed to appropriate crisis centers based on those selections. We seek comment on whether georouting is necessary for these specialized services, and whether there are any unique considerations for routing calls that impact our proposals. Do the georouting solutions under development contemplate routing for such calls? Do stakeholders agree that georouting solutions are not needed when a caller to 988 selects a specialized service?

13. Correlating the Caller's Location with Call Centers. We seek comment on how each proposed solution identifies the caller's location and correlates that location with a geographically appropriate crisis call center. For instance, both the georouting solution originally proposed by Intrado at the May 2022 Forum and the modified Intrado Life & Safety solution tested by the proof of concept conducted during the summer of 2023 identified the location of the caller based on the cell tower that originated the call, and used the location of that cell tower to determine the closest crisis center. As noted above, calls to certain N11 services (e.g., 211) are also routed to call centers based on the geographic location of the cell tower that originates the call. We believe that a georouting solution that is based on cell tower information would best identify a caller's location and thus enable routing the call to a geographically appropriate crisis call center, and we seek comment on this belief. If commenters support alternative methods of identifying the caller's location, we ask that they specify those methods and provide any technical information needed to understand how the alternate means of identifying a caller's location would function in a georouting solution. We also seek comment on whether any means of identifying a caller's location may be impacted by the wireless handset that a caller uses to dial 988.

14. Once the caller's location has been determined, to complete the georouting path that location must be matched with a nearby crisis center. What geographic boundaries would be applied by each proposed solution to do so? For instance, the Intrado Life & Safety solution tested during the proof of concept used wire centers as the geographic boundary for associating the cell tower that originated the call with the nearest call center. We assume that other geographic boundaries could similarly be applied, e.g., determining the most geographically appropriate call center based on its proximity to the county in which the cell tower originating the call is located. We seek comment on the geographic boundaries that are utilized by the georouting solutions proposed to date, whether those boundaries comport with any requirements delineated by SAMHSA, the Lifeline Administrator, and state and territory 988 authorities for the network of 988 crisis centers, and whether the Commission should mandate the use of one or more particular geographic boundaries. Given that there are over 200 crisis call centers across the United States, we ask that commenters address whether certain geographic boundaries are sufficiently granular to achieve the goal of connecting callers with local resources during a time of crisis and whether there are any geographic boundaries that would be overbroad. For instance, would using a state-level boundary be too broad where there are multiple crisis centers within a particular state? How should we factor in the growing number of crisis centers and their impact on the geographic boundary adopted for a georouting solution? Our understanding is that the 988 Lifeline's crisis centers are independently owned and operated and select their own coverage area, which may be based on zip code, area code, county, or state. How would a proposed georouting solution address established coverage areas for particular crisis centers (e.g., any crisis centers that must receive calls from specified counties)? We also seek comment on whether any geographic boundaries would be too granular in a manner that implicates privacy or other concerns. If different georouting solutions propose to use different geographic boundaries (e.g., one solution uses wire center while another uses county), should we allow different wireless carriers to implement one of multiple technically feasible options? Or would permitting wireless carriers to implement a number of geographic boundaries impact public interest and the public's expectation of routing to a “geographically appropriate” crisis call center? What other issues, data, and documents should be considered to assess how a proposed solution identifies a caller's location and matches that location to a geographically appropriate crisis call center, and whether that match achieves the public and mental health needs served by the 988 Lifeline? Are there any other factors that should be considered in determining whether routing to a particular crisis center would be appropriate?

15. Required Routing Data and Transmission. We seek comment on the routing data required to effectuate each proposed solution and how it would be transmitted. SAMHSA, as the agency with oversight of the Lifeline Administrator, must ultimately determine the routing data that it will deem acceptable and that it will require the 988 Lifeline's systems to be configured to read. What specific data would the currently contemplated solutions require wireless carriers to transmit when originating calls to the 988 Lifeline (e.g., a Federal Information Processing Standard code for a solution utilizing county as a geographic boundary, a unique destination code for a solution using other parameters, any carrier-specific or other additional digits or data points) and how would wireless carriers pass that data through with the call? Would the routing information be entered into a particular field in the call header of a Session Initiation Protocol (SIP) message (e.g., in the Jurisdictional Identification Parameter, P-Asserted-Identity, or other field)? Would it be necessary to redefine an existing SIP header field or define a new one to transmit the data? Should a non-standardized field, such as an X-Header, be used to contain the data? Does any field used to transmit the routing data need to be identified as a mandatory SIP header field that is unchanged as the SIP message traverses security gateways from one network to another? Should solutions to support georouting avoid changes to the SIP header field by the Internet Engineering Task Force to avoid delays in deployment? We ask that commenters describe in detail the advantages and disadvantages of using a particular call header field to transmit any required routing information. We also ask that commenters address any privacy or other concerns implicated by the transmission of certain routing data with calls to the 988 Lifeline. For instance, what specific information would be received by the Lifeline Administrators and/or its service providers when the call is routed to the Lifeline's centralized routing platform and what, if anything, about the caller could be inferred from that data? Does the Lifeline Administrator have a preference for receiving certain routing data a certain way as the entity responsible for terminating calls to local crisis centers? If different wireless carriers wished to utilize different georouting solutions, transmitting different routing data via different call header fields, could the Lifeline Administrator accommodate that to perform the terminating end of each solution? If that were feasible, what would be the advantages and disadvantages of a multiple solution approach versus requiring all wireless carriers to transmit the same data with the same values in the same field?

16. Technical Limitations. We seek comment on the technological limitations of each solution that may prevent a call from being routed to a geographically appropriate crisis call center, if any. For instance, would a particular solution work if the caller is roaming or using Wi-Fi calling? Could the routing information entered into the call header be stripped out if the call traverses a non-IP interconnection point? Does the impact of one or more intermediate providers affect the transmission of the call header to the Lifeline Administrator and/or its service providers? Are there different technical considerations for routing calls dialed directly to the 988 Lifeline's toll free access number and calls dialed to the 3-digit code? As wireless networks evolve and carriers retire older technologies, what impact, if any, would this have on the implementation of a georouting solution for the 988 Lifeline? Are there any technical limitations of the 988 Lifeline's systems that would prevent the Lifeline Administrator from being able to effectively implement the terminating end of a particular solution? Does the wireless handset that a caller uses to dial 988 present any technical limitations or challenges? If a particular wireless call is out-of-scope for a georouting solution, or the routing data transmitted with a call is or becomes unreadable for any reason, what would occur? We recognize that SAMHSA and the Lifeline Administrator are best suited to ensure that calls are routed properly and ultimately answered by a call center. From the perspective of the originating wireless carrier and its customers, would an out-of-scope call or call with unreadable routing data default to the current routing by area code or be redirected to a national back-up? Is it possible that the call would be disconnected? While the benefits of improving routing for 988 calls are clear, it is paramount that callers be connected with critical, life-saving help even if the closest crisis center cannot be identified or reached. We ask that commenters address the calls that would be successfully routed from originating wireless carriers to crisis centers pursuant to a proposed solution and those that may not be due to technological or other limitations, and explain how any calls that fall in the latter group will nonetheless be connected to an appropriate 988 crisis center. If there are states or territories that will be excluded from any georouting solution due to technical or facility limitations, in whole or in part, we ask that commenters identify those areas.

17. Infrastructure and System Considerations. We seek comment on any network infrastructure and system changes or upgrades that may be required at each step of the call path for wireless carriers to successfully implement the proposed georouting solutions. For example, would wireless carriers need to develop certain technologies to support the proposed solutions? Would any network upgrades or programming changes be necessary? Are any specific upgrades necessary to the 988 Lifeline's routing platform and other facilities and systems that could impact the availability of a georouting solution to originating wireless carriers and their customers? Would any additional entities have to upgrade their infrastructure, facilities, and systems to perform their roles in a georouting solution, enable callers to the 988 Lifeline to benefit from a georouting solution, or to continue providing services to the 988 Lifeline after the implementation of a georouting solution? Are there any other considerations that impact when, whether, and how any needed infrastructure or system changes are implemented, such as administrative challenges or contractual issues?

18. Costs and Benefits. We seek comment on the costs and benefits of deploying one or more of the proposed solutions. What specific costs would be incurred by the wireless carriers originating calls, any necessary intermediaries, and the Lifeline Administrator responsible for terminating the calls? Would significant costs need to be incurred for network or system changes or upgrades? Are there ways to minimize the costs, especially on non-nationwide or small providers? Are there contracting costs or costs associated with accessing proprietary functions? Do any of the proposed georouting solutions otherwise raise compensation issues between any of the participants involved in the solutions, including, but not limited to, charges to wireless carriers, intermediaries, and/or the Lifeline Administrator to access elements of a georouting solution, charges assessed by entities interested in marketing a georouting solution to carriers as a service, or interconnection fees? If so, how would or should compensation issues be addressed?

19. What are the benefits of utilizing a particular routing solution? In requiring calls and texts to 988 to be routed to the Lifeline, the Commission found that enabling more Americans to access the 988 Lifeline's life-saving suicide prevention and mental health crisis services far surpassed the cost of implementation. In this next phase of improving routing to 988, we seek comment on the ways in which a georouting solution might further reduce suicides and future crises beyond our initial estimates. Is there a way of measuring or quantifying the impact that a georouting solution would have on the outcomes of calls to the 988 Lifeline? Are there any benefits that we have not identified that could be realized from a georouting solution? Do the public interest benefits of routing callers in crisis to geographically appropriate crisis call centers outweigh any potential costs? We seek comment on whether there are unique circumstances or factors with respect to routing that would change this analysis. We also seek comment on the costs and benefits of wireless carriers implementing multiple georouting solutions with different geographic parameters and technical requirements.

20. Testing of Proposed Solutions. We seek comment from wireless carriers on the testing that has been completed for proposed georouting solutions, the results of the tests, and any work that is in progress to address any implementation or other issues discovered as a result of the tests. The ultimate goal of the coordination between SAMHSA, the Lifeline Administrator, and the Commission is to identify one or more georouting solutions that are compatible with the 988 Lifeline's systems and achieves the policy objectives of connecting callers in crisis with local support. We ask that wireless carriers address how any testing conducted demonstrates that a proposed solution achieves these objectives. How many tests have been conducted to date and with which carriers or other entities? What georouting solutions were the subjects of those tests and how did participants propose to route calls to geographically appropriate crisis centers? What technical specifications, assumptions, or other parameters were applied to the tests? Were any problems or challenges identified in connection with those tests? How have those problems or challenges been resolved or what are the proposals for resolving them? Has any testing indicated that one solution is technologically superior and/or closer to deployment? Has any testing indicated that a particular solution could be implemented in the wireless networks of multiple carriers with only minor adjustments, if any? Has the testing established that both the originating end and the terminating end of the georouting solution are viable, or has the testing focused on limited aspects of the solution? Will wireless carriers participate in any traffic studies conducted to evaluate georouting solutions, and if so, what data would be required to conduct those studies, what entities would be required to provide the data, and what would stakeholders hope to learn from those studies?

21. Timeline for Deployment. We seek comment on timelines for the deployment of one or more georouting solutions. We ask that commenters specify the work that must still be completed by wireless carriers, SAMHSA, the Lifeline Administrator, and/or any third parties to implement a georouting solution for the 988 Lifeline and the timeline(s) for the completion of that work. We seek comment on whether both the originating functions that need to be performed by wireless carriers and the terminating functions that need to be performed by the Lifeline Administrator and its service providers will be deployed at the same time, and if not, when the two ends of the georouting solution in question will be in sync. We ask that commenters identify any technical, financial, operational, legal, or other factors that may influence the timeframe for deploying a particular solution. We also ask commenters to detail whether a particular georouting solution will be deployed immediately on a national basis or on an incremental basis (e.g., market-by-market), and in the case of the latter, the timeline for rolling out the solution to all states and territories.

22. Alternative Georouting Solutions. We seek comment on any alternative georouting solutions. We remind commenters, as noted above, that the United States continues to face a mental health crisis and reiterate our belief that implementing a georouting solution without delay to connect callers to 988 with geographically appropriate crisis call centers provides better care to those in crisis. Nevertheless, we seek comment on alternative georouting solutions that could be implemented by wireless carriers, including any concepts that have not yet been tested or developed. Are there solutions that build off the proof of concept or other proposals referenced herein that have not yet been presented to SAMHSA or the Lifeline Administrator? Are there ways to leverage existing routing technologies for 988 that have not been considered? If so, what are the functional steps and technical specifications for such solutions? Would it be more effective and efficient for a standards body, such as the Alliance for Telecommunications Industry Solutions, to examine the options for a georouting solution for the 988 Lifeline and issue standards that could be applied by wireless carriers? Should the work from other standards bodies, in addition to or in place of the internet Engineering Task Force and Alliance for Telecommunications Industry Solutions, be used to support georouting? Would that expedite or slow the deployment of a solution? Would any delay resulting from review by a standards body be warranted if it resulted in a more broadly adopted standard? Rather than relying on the wireless industry to produce a standard, would it be more effective for the Lifeline Administrator and/or its service providers to produce written technical specifications for a georouting solution that SAMHSA has deemed acceptable for the 988 Lifeline, i.e., have the Lifeline Administrator specify the routing information that must be transmitted with calls terminated to the 988 Lifeline and the way it needs to receive that information, and let the wireless carriers figure out how to comply? What information would need to be included in those technical specifications for wireless carriers to be able to develop a georouting solution that is compatible with the requirements set forth by the Lifeline Administrator?

23. Form of Rules. We seek comment on whether rules requiring wireless carriers to implement a georouting solution for the 988 Lifeline should specify one or more technical solutions that must be used or more generally require wireless carriers to implement a georouting solution within a certain period of time of the Lifeline Administrator announcing that it is: (a) prepared to implement the terminating function of one or more georouting solutions; and (b) able to provide technical specifications needed by wireless carriers to implement the originating functions. We seek comment on the merits of these two approaches or whether rules adopted by the Commission should take a different form.

24. We also seek comment on the interplay between a rule requiring wireless carriers to implement a georouting solution for the 988 Lifeline and the Commission's existing rules. Would our existing rules need to be modified, and if so how? For example, while the Commission's rules require originating service providers to route calls to the 988 Lifeline's current toll free access number, would a particular georouting solution require us to modify our rules to allow calls to be routed directly to the Lifeline's individual crisis call centers? We observe that the Commission's Wireline Competition Bureau granted a waiver to allow covered text providers to route covered 988 text messages to the 988 Lifeline using the short code protocol without translation to the Lifeline's current toll free access number, 1-800-273-8255 (TALK). Would a rule change be necessary for us to require wireless carriers to implement a georouting solution?

25. Non-Wireless Calls. As explained above, this FNPRM focuses on georouting solutions for wireless calls to the 988 Lifeline because of the established scenarios in which a caller's location may differ from the area code associated with the wireless phone, and the fact that the majority of calls placed to the 988 Lifeline are from wireless devices. We nevertheless invite comment on whether the 988 Lifeline's current method of routing calls by area code creates challenges for callers using other technologies, including but not limited to different variations of Voice over internet-Protocol (VoIP) technology. If so, have any georouting solutions been proposed for such calls? Are any unique challenges presented by the relevant technologies? We ask that commenters responding to this inquiry provide the same information and documents requested herein with respect to georouting solutions for wireless calls.

26. Texts to 988. Texting is an important mode of communication to the 988 Lifeline and has increasingly become the preferred means of communicating among certain demographic groups, many of whom are at risk for mental health crises. Pursuant to the Commission's rules, texts are required to be routed to the 988 Lifeline's ten-digit toll free access number like voice calls. We seek comment on the impact of the georouting solutions discussed above on texting to 988 and whether additional improvements are needed to route texts to geographically appropriate 988 crisis centers. In general, what are the challenges for implementing a georouting solution for texts to 988 and how do wireless carriers and other stakeholders propose to address those challenges? Would all technologies used to send texts be compatible with a particular georouting solution? What are the costs of implementing a georouting solution for texts to the 988 Lifeline, including any network infrastructure or system changes or upgrades necessary to implement a solution? What are the benefits of implementing a georouting solution for texts, and do they outweigh the costs? How long would it take to develop and deploy a georouting solution for texts? We ask that commenters responding to these inquiries provide the same technical, logistical, operational, economic, and practical information requested above for the georouting of voice calls to 988, and identify any relevant considerations that are unique to georouting texts, as opposed to calls, to 988.

Legal Authority

27. We tentatively conclude that we have the authority to adopt rules requiring wireless carriers to implement one or more georouting solutions for calls to the 988 Lifeline under Title II and Title III of the Communications Act of 1934, as amended (Act), and section 104 of the Twenty-First Century Communications and Video Accessibility Act (CVAA), and we seek comment on this proposal. In particular, we seek comment on whether and to what extent the Commission's Title III authority over wireless carriers confers authority for what we propose and seek comment on in this FNPRM, including sections 301, 303, 307, 309, and 316. As the Supreme Court has long recognized, Title III grants the Commission a “comprehensive mandate” regarding regulation of spectrum usage, and courts have routinely found that Title III provides the Commission with “broad authority to manage spectrum . . . in the public interest.” As we explain above, we believe that requiring wireless carriers to implement a georouting solution for the 988 Lifeline will confer significant public interest benefits by connecting those experiencing a mental health crisis with local public safety and counseling resources that could save lives. We seek comment on this assessment.

28. We also seek comment on whether and to what extent our numbering authority under section 251(e) of the Act provides a source of authority for what we propose and seek comment on in this FNPRM. Section 251(e)(1) gives the Commission “exclusive jurisdiction over those portions of the North American Numbering Plan that pertain to the United States.” The Commission's exclusive jurisdiction over numbering policy enables the Commission to act flexibly and expeditiously on important numbering matters, which pursuant to section 251(e)(4) of the Act, includes the designation of 988 as the universal telephone number for the 988 Lifeline. We seek comment on whether this authority would extend to adopting rules requiring wireless carriers to route calls to the 988 Lifeline in a manner that would help to ensure that all Americans can receive efficient, swift access to, and reap the benefits of, critical suicide prevention and crisis services offered through the 988 Lifeline.

29. We seek comment on any other sources of authority that would authorize the Commission to require wireless carriers to implement a georouting solution for calls to the 988 Lifeline, including whether the Commission could invoke its ancillary authority. To exercise ancillary jurisdiction “two conditions [must be] satisfied: (1) the Commission's general jurisdictional grant under Title I [of the Communications Act] covers the regulated subject and (2) the regulations are reasonably ancillary to the Commission's effective performance of its statutorily mandated responsibilities.” Routing calls to the 988 Lifeline involves communications by wire or radio and the use of equipment for purposes of facilitating transmission by wire or radio. The Commission previously found that imposing outage reporting requirements on covered 988 service providers was reasonably ancillary to our responsibility to ensure that the 988 Lifeline operates effectively. We believe that requiring the use of a georouting solution for the 988 Lifeline is necessary to carry out our responsibility for the proper functioning of the 988 Lifeline services under section 251(e)(4), and seek comment on whether doing so falls within the scope of the Commission's ancillary authority.

30. Digital Equity. The Commission, as part of its continuing effort to advance digital equity for all, including people of color, persons with disabilities, persons who live in rural or Tribal areas, and others who have been historically underserved, marginalized, and adversely affected by persistent poverty and inequality, invites comments on any equity-related considerations and benefits (if any) that may be associated with the proposals and issues discussed herein. Specifically, we seek comment on how our proposals may promote or inhibit advances in diversity, equity, inclusion, and accessibility, as well as the scope of the Commission's relevant legal authority.

Initial Regulatory Flexibility Analysis

31. As required by the Regulatory Flexibility Act of 1980, as amended (RFA), the Commission has prepared this Initial Regulatory Flexibility Analysis (IRFA) of the possible significant economic impact on small entities by the policies and rules proposed in the Second Further Notice of Proposed Rulemaking (FNPRM). Written public comments are requested on this IRFA. Comments must be identified as responses to the IRFA and must be filed by the deadlines for comments provided in the FNPRM. The Commission will send a copy of the FNPRM, including this IRFA, to the Chief Counsel for Advocacy of the Small Business Administration (SBA). In addition, the FNPRM and IRFA (or summaries thereof) will be published in the Federal Register.

Need for, and Objectives of, the Proposed Rules

32. The FNPRM seeks to facilitate access to critical suicide prevention and crisis services by improving routing of wireless calls to the 988 Suicide & Crisis Lifeline (988 Lifeline). The 988 Lifeline is currently designed to route wireless calls to crisis centers based on a caller's area code and exchange. As a result, however, the 988 Lifeline may not route a wireless call to a crisis center nearest to the caller's physical location. This is particularly concerning given the increased prevalence of calls to the 988 Lifeline originating from wireless phones and the importance of providing help-seekers access to local resources.

33. The FNPRM proposes to adopt a rule that would require wireless carriers to implement one or more georouting solutions for calls to the 988 Lifeline, and seeks comment to thoroughly and transparently consider georouting solutions that could fall within the scope of that mandate and to identify any remaining work to implement a georouting solution. The FNPRM seeks comment on whether mandating the use of one or more georouting solutions by wireless carriers originating calls to the 988 Lifeline will achieve the benefits of enhancing access to critical support and resources. The FNPRM inquires about the viability of any potential georouting solutions proposed to date, including those proposed to SAMHSA and the Lifeline Administrator, and also seeks comment on any alternative georouting solutions. The Commission believes that a georouting solution based on cell tower information would best identify a caller's location and thus enable routing the call to a geographically appropriate crisis call center. The FNPRM seeks comment on this belief and on any other alternatives for identifying a caller's location and correlating that location with a geographically appropriate crisis call center. The FNPRM also seeks comment on the geographic boundaries used for any proposed georouting solution and asks whether the Commission should mandate the use of one or more particular geographic boundaries. For any georouting solutions, the FNPRM inquires about the technical specifications and limitations, required routing data and transmission methods, necessary infrastructure and system changes or upgrades, testing requirements, costs and benefits, and timelines for deployment. Additionally, the FNPRM seeks comment on any routing challenges and potential georouting solutions for non-wireless calls. The FNPRM also seeks comment on the impact of georouting solutions on texting to the 988 Lifeline and asks whether additional improvements are needed to route texts to geographically appropriate 988 crisis centers. Lastly, the FNPRM requests comment on the form of rules requiring wireless carriers to implement a georouting solution for the 988 Lifeline and on the Commission's authority to adopt such rules.

Legal Basis

34. The legal basis for any action that may be taken pursuant to this FNPRM is contained in sections 1, 4(i), 4(j), 201, 218, 251(e), 301, 303, 307, 309(a), 316, 332, and 403 of the Communications Act of 1934, as amended.

Description and Estimate of the Number of Small Entities to Which the Proposed Rules Will Apply

35. The RFA directs agencies to provide a description of and, where feasible, an estimate of the number of small entities that may be affected by the proposed rules and by the rule revisions on which the FNPRM seeks comment, if adopted. The RFA generally defines the term “small entity” as having the same meaning as the terms “small business,” “small organization,” and “small governmental jurisdiction.” In addition, the term “small business” has the same meaning as the term “small-business concern” under the Small Business Act. A “small-business concern” is one which: (1) is independently owned and operated; (2) is not dominant in its field of operation; and (3) satisfies any additional criteria established by the SBA.

36. Small Businesses, Small Organizations, Small Governmental Jurisdictions. Our actions, over time, may affect small entities that are not easily categorized at present. We therefore describe, at the outset, three broad groups of small entities that could be directly affected herein. First, while there are industry specific size standards for small businesses that are used in the regulatory flexibility analysis, according to data from the Small Business Administration's (SBA) Office of Advocacy, in general a small business is an independent business having fewer than 500 employees. These types of small businesses represent 99.9% of all businesses in the United States, which translates to 33.2 million businesses.

37. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2022, there were approximately 530,109 small exempt organizations in the U.S. reporting revenues of $50,000 or less according to the registration and tax data for exempt organizations available from the IRS.

38. Finally, the small entity described as a “small governmental jurisdiction” is defined generally as “governments of cities, counties, towns, townships, villages, school districts, or special districts, with a population of less than fifty thousand.” U.S. Census Bureau data from the 2022 Census of Governments indicate there were 90,837 local governmental jurisdictions consisting of general purpose governments and special purpose governments in the United States. Of this number, there were 36,845 general purpose governments (county, municipal, and town or township) with populations of less than 50,000 and 11,879 special purpose governments (independent school districts) with enrollment populations of less than 50,000. Accordingly, based on the 2022 U.S. Census of Governments data, we estimate that at least 48,724 entities fall into the category of “small governmental jurisdictions.”

39. Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers.

40. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were engaged in the provision of fixed local services. Of these providers, the Commission estimates that 4,146 providers have 1,500 or fewer employees. Consequently, using the SBA's small business size standard, most of these providers can be considered small entities

41. Local Exchange Carriers (LECs). Neither the Commission nor the SBA has developed a size standard for small businesses specifically applicable to local exchange services. Providers of these services include both incumbent and competitive local exchange service providers. Wired Telecommunications Carriers is the closest industry with an SBA small business size standard. Wired Telecommunications Carriers are also referred to as wireline carriers or fixed local service providers. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were fixed local exchange service providers. Of these providers, the Commission estimates that 4,146 providers have 1,500 or fewer employees. Consequently, using the SBA's small business size standard, most of these providers can be considered small entities.

42. Incumbent Local Exchange Carriers (Incumbent LECs). Neither the Commission nor the SBA have developed a small business size standard specifically for incumbent local exchange carriers. Wired Telecommunications Carriers is the closest industry with an SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2022 Universal Service Monitoring Report, as of December 31, 2021, there were 1,212 providers that reported they were incumbent local exchange service providers. Of these providers, the Commission estimates that 916 providers have 1,500 or fewer employees. Consequently, using the SBA's small business size standard, the Commission estimates that the majority of incumbent local exchange carriers can be considered small entities.

43. Competitive Local Exchange Carriers (Competitive LECs). Neither the Commission nor the SBA has developed a size standard for small businesses specifically applicable to local exchange services. Providers of these services include several types of competitive local exchange service providers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 3,378 providers that reported they were competitive local exchange service providers. Of these providers, the Commission estimates that 3,230 providers have 1,500 or fewer employees. Consequently, using the SBA's small business size standard, most of these providers can be considered small entities.

44. Interexchange Carriers (IXCs). Neither the Commission nor the SBA have developed a small business size standard specifically for Interexchange Carriers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 127 providers that reported they were engaged in the provision of interexchange services. Of these providers, the Commission estimates that 109 providers have 1,500 or fewer employees. Consequently, using the SBA's small business size standard, the Commission estimates that the majority of providers in this industry can be considered small entities.

45. Local Resellers. Neither the Commission nor the SBA have developed a small business size standard specifically for Local Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 207 providers that reported they were engaged in the provision of local resale services. Of these providers, the Commission estimates that 202 providers have 1,500 or fewer employees. Consequently, using the SBA's small business size standard, most of these providers can be considered small entities.

46. Toll Resellers. Neither the Commission nor the SBA have developed a small business size standard specifically for Toll Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 457 providers that reported they were engaged in the provision of toll services. Of these providers, the Commission estimates that 438 providers have 1,500 or fewer employees. Consequently, using the SBA's small business size standard, most of these providers can be considered small entities.

47. Other Toll Carriers. Neither the Commission nor the SBA has developed a definition for small businesses specifically applicable to Other Toll Carriers. This category includes toll carriers that do not fall within the categories of interexchange carriers, operator service providers, prepaid calling card providers, satellite service carriers, or toll resellers. Wired Telecommunications Carriers is the closest industry with a SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2022 Universal Service Monitoring Report, as of December 31, 2021, there were 90 providers that reported they were engaged in the provision of other toll services. Of these providers, the Commission estimates that 87 providers have 1,500 or fewer employees. Consequently, using the SBA's small business size standard, most of these providers can be considered small entities.

48. Wireless Carriers and Service Providers. Wireless Telecommunications Carriers (except Satellite) is the closest industry with a SBA small business size standard applicable to these service providers. The SBA small business size standard for this industry classifies a business as small if it has 1,500 or fewer employees. U.S. Census Bureau data for 2017 show that there were 2,893 firms that operated in this industry for the entire year. Of this number, 2,837 firms employed fewer than 250 employees. Additionally, based on Commission data in the 2022 Universal Service Monitoring Report, as of December 31, 2021, there were 594 providers that reported they were engaged in the provision of wireless services. Of these providers, the Commission estimates that 511 providers have 1,500 or fewer employees. Consequently, using the SBA's small business size standard, most of these providers can be considered small entities.

49. Wireless Communications Services. Wireless Communications Services (WCS) can be used for a variety of fixed, mobile, radiolocation, and digital audio broadcasting satellite services. Wireless spectrum is made available and licensed for the provision of wireless communications services in several frequency bands subject to Part 27 of the Commission's rules. Wireless Telecommunications Carriers (except Satellite) is the closest industry with an SBA small business size standard applicable to these services. The SBA small business size standard for this industry classifies a business as small if it has 1,500 or fewer employees. U.S. Census Bureau data for 2017 show that there were 2,893 firms that operated in this industry for the entire year. Of this number, 2,837 firms employed fewer than 250 employees. Thus under the SBA size standard, the Commission estimates that a majority of licensees in this industry can be considered small.

50. The Commission's small business size standards with respect to WCS involve eligibility for bidding credits and installment payments in the auction of licenses for the various frequency bands included in WCS. When bidding credits are adopted for the auction of licenses in WCS frequency bands, such credits may be available to several types of small businesses based average gross revenues (small, very small and entrepreneur) pursuant to the competitive bidding rules adopted in conjunction with the requirements for the auction and/or as identified in the designated entities section in part 27 of the Commission's rules for the specific WCS frequency bands.

51. In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time we are not able to estimate the number of licensees with active licenses that would qualify as small under the SBA's small business size standard.

52. Wireless Telephony. Wireless telephony includes cellular, personal communications services, and specialized mobile radio telephony carriers. The closest applicable industry with an SBA small business size standard is Wireless Telecommunications Carriers (except Satellite). The size standard for this industry under SBA rules is that a business is small if it has 1,500 or fewer employees. For this industry, U.S. Census Bureau data for 2017 show that there were 2,893 firms that operated for the entire year. Of this number, 2,837 firms employed fewer than 250 employees. Additionally, based on Commission data in the 2022 Universal Service Monitoring Report, as of December 31, 2021, there were 331 providers that reported they were engaged in the provision of cellular, personal communications services, and specialized mobile radio services. Of these providers, the Commission estimates that 255 providers have 1,500 or fewer employees. Consequently, using the SBA's small business size standard, most of these providers can be considered small entities.

53. Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2022 Universal Service Monitoring Report, as of December 31, 2021, there were 594 providers that reported they were engaged in the provision of wireless services. Of these providers, the Commission estimates that 511 providers have 1,500 or fewer employees. Consequently, using the SBA's small business size standard, most of these providers can be considered small entities.

54. Cable and Other Subscription Programming. The U.S. Census Bureau defines this industry as establishments primarily engaged in operating studios and facilities for the broadcasting of programs on a subscription or fee basis. The broadcast programming is typically narrowcast in nature (e.g., limited format, such as news, sports, education, or youth-oriented). These establishments produce programming in their own facilities or acquire programming from external sources. The programming material is usually delivered to a third party, such as cable systems or direct-to-home satellite systems, for transmission to viewers. The SBA small business size standard for this industry classifies firms with annual receipts less than $41.5 million as small. Based on U.S. Census Bureau data for 2017, 378 firms operated in this industry during that year. Of that number, 149 firms operated with revenue of less than $25 million a year and 44 firms operated with revenue of $25 million or more. Based on this data, the Commission estimates that a majority of firms in the industry are small.

55. Cable Companies and Systems (Rate Regulation). The Commission has developed its own small business size standard for the purpose of cable rate regulation. Under the Commission's rules, a “small cable company” is one serving 400,000 or fewer subscribers nationwide. Based on industry data, there are about 420 cable companies in the U.S. Of these, only seven have more than 400,000 subscribers. In addition, under the Commission's rules, a “small system” is a cable system serving 15,000 or fewer subscribers. Based on industry data, there are about 4,139 cable systems (headends) in the U.S. Of these, about 639 have more than 15,000 subscribers. Accordingly, the Commission estimates that the majority of cable companies and cable systems are small.

56. Cable System Operators (Telecom Act Standard). The Communications Act of 1934, as amended, contains a size standard for a “small cable operator,” which is “a cable operator that, directly or through an affiliate, serves in the aggregate fewer than one percent of all subscribers in the United States and is not affiliated with any entity or entities whose gross annual revenues in the aggregate exceed $250,000,000.” For purposes of the Telecom Act Standard, the Commission determined that a cable system operator that serves fewer than 498,000 subscribers, either directly or through affiliates, will meet the definition of a small cable operator. Based on industry data, only six cable system operators have more than 498,000 subscribers. Accordingly, the Commission estimates that the majority of cable system operators are small under this size standard. We note however, that the Commission neither requests nor collects information on whether cable system operators are affiliated with entities whose gross annual revenues exceed $250 million. Therefore, we are unable at this time to estimate with greater precision the number of cable system operators that would qualify as small cable operators under the definition in the Communications Act.

57. Satellite Telecommunications. This industry comprises firms “primarily engaged in providing telecommunications services to other establishments in the telecommunications and broadcasting industries by forwarding and receiving communications signals via a system of satellites or reselling satellite telecommunications.” Satellite telecommunications service providers include satellite and earth station operators. The SBA small business size standard for this industry classifies a business with $38.5 million or less in annual receipts as small. U.S. Census Bureau data for 2017 show that 275 firms in this industry operated for the entire year. Of this number, 242 firms had revenue of less than $25 million. Additionally, based on Commission data in the 2022 Universal Service Monitoring Report, as of December 31, 2021, there were 65 providers that reported they were engaged in the provision of satellite telecommunications services. Of these providers, the Commission estimates that approximately 42 providers have 1,500 or fewer employees. Consequently, using the SBA's small business size standard, a little more than half of these providers can be considered small entities.

58. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g. dial-up ISPs) or Voice over internet Protocol (VoIP) services, via client-supplied telecommunications connections are also included in this industry. The SBA small business size standard for this industry classifies firms with annual receipts of $35 million or less as small. U.S. Census Bureau data for 2017 show that there were 1,079 firms in this industry that operated for the entire year. Of those firms, 1,039 had revenue of less than $25 million. Based on this data, the Commission estimates that the majority of “All Other Telecommunications” firms can be considered small.

59. Radio and Television Broadcasting and Wireless Communications Equipment Manufacturing. This industry comprises establishments primarily engaged in manufacturing radio and television broadcast and wireless communications equipment. Examples of products made by these establishments are: transmitting and receiving antennas, cable television equipment, GPS equipment, pagers, cellular phones, mobile communications equipment, and radio and television studio and broadcasting equipment. The SBA small business size standard for this industry classifies businesses having 1,250 employees or less as small. U.S. Census Bureau data for 2017 show that there were 656 firms in this industry that operated for the entire year. Of this number, 624 firms had fewer than 250 employees. Thus, under the SBA size standard, the majority of firms in this industry can be considered small.

60. Semiconductor and Related Device Manufacturing. This industry comprises establishments primarily engaged in manufacturing semiconductors and related solid state devices. Examples of products made by these establishments are integrated circuits, memory chips, microprocessors, diodes, transistors, solar cells and other optoelectronic devices. The SBA small business size standard for this industry classifies entities having 1,250 or fewer employees as small. U.S. Census Bureau data for 2017 show that there were 729 firms in this industry that operated for the entire year. Of this total, 673 firms operated with fewer than 250 employees. Thus under the SBA size standard, the majority of firms in this industry can be considered small.

61. Software Publishers. This industry comprises establishments primarily engaged in computer software publishing or publishing and reproduction. Establishments in this industry carry out operations necessary for producing and distributing computer software, such as designing, providing documentation, assisting in installation, and providing support services to software purchasers. These establishments may design, develop, and publish, or publish only. The SBA small business size standard for this industry classifies businesses having annual receipts of $41.5 million or less as small. U.S. Census Bureau data for 2017 indicate that 7,842 firms in this industry operated for the entire year. Of this number 7,226 firms had revenue of less than $25 million. Based on this data, we conclude that a majority of firms in this industry are small.

Description of Projected Reporting, Recordkeeping, and Other Compliance Requirements for Small Entities

62. The RFA requires Federal agencies to describe the impact of proposed rules on small entities. The FNPRM proposes to adopt a rule that would require small and other wireless carriers to implement one or more georouting solutions for calls to the 988 Lifeline. The Commission believes that a georouting solution based on cell tower information would best identify a caller's location to enable routing to a geographically appropriate crisis call center and seeks comment on this conclusion. The FNPRM seeks comment on whether the Commission should mandate the use of one or more particular geographic boundaries. The FNPRM also seeks comment on routing challenges and potential georouting solutions for non-wireless calls and asks whether additional improvements are needed to route texts to geographically appropriate 988 crisis centers. Additionally, the FNPRM seeks comment on a number of aspects related to implementing any georouting solutions, including technical specifications and limitations, required routing data and transmission methods, necessary infrastructure and system changes or upgrades, testing requirements, timelines for deployment, and the Commission expects that small entities will incur costs to implement these changes. At this time the Commission does not have sufficient cost information to quantify compliance costs for small entities. However, we expect the comments received in response to the FNPRM to include information which should help the Commission further analyze the economic impact of various proposals on small entities, including but not limited to costs for professional services, before adopting final rules.

Steps Taken To Minimize the Significant Economic Impact on Small Entities and Significant Alternatives Considered

63. The RFA requires an agency to describe any significant alternatives that could minimize impacts to small entities that it has considered in reaching its proposed approach, which may include the following four alternatives (among others): “(1) the establishment of differing compliance or reporting requirements or timetables that take into account the resources available to small entities; (2) the clarification, consolidation, or simplification of compliance and reporting requirements under the rules for such small entities; (3) the use of performance rather than design standards; and (4) an exemption from coverage of the rule, or any part thereof, for such small entities.”

64. In the FNPRM, the Commission seeks comment from all entities, including small entities, on the effect of deploying a georouting solution for wireless calls to the 988 Lifeline, and on alternative ways of implementing a georouting solution, including concepts that have yet to be tested or developed. For example, the FNPRM seeks comment on the costs and benefits of deploying a georouting solution for wireless calls to the 988 Lifeline. This includes whether rules requiring wireless carriers to implement a georouting solution for the 988 Lifeline should specify one or more technical solutions that must be used or more generally require wireless carriers to implement a georouting solution within a certain period of time of the Lifeline Administrator announcing that it is: (a) prepared to implement the terminating function of one or more georouting solutions; and (b) able to provide technical specifications needed by wireless carriers to implement the originating functions. Additionally, the FNPRM invites stakeholders to comment on whether georouting solutions that have been developed to date by major carriers would be viable for smaller carriers, and any distinctions that need to be considered for smaller carriers when mandating the use of a georouting solution for the 988 Lifeline. The FNPRM also inquires whether there are any ways to minimize costs incurred for network or system changes or upgrades, particularly for small providers. Small entities are encouraged to bring to the Commission's attention any specific concerns they may have with the alternatives proposed in the FNPRM. We expect to take into account the economic impact on small entities, as identified in comments filed in response to the FNPRM and this IRFA, in reaching our final conclusions and promulgating rules in this proceeding.

Federal Rules That May Duplicate, Overlap, or Conflict With the Proposed Rules

65. None.

Ordering Clauses

66. Accordingly, it is ordered, pursuant to sections 1, 4(i), 4(j), 201, 218, 251(e), 301, 303, 307, 309(a), 316, 332, and 403 of the Communications Act of 1934, as amended, 47 U.S.C. 151, 154(i), 154(j), 201, 218, 251(e), 301, 303, 307, 309(a), 316, 332, and 403, that this FNPRM is adopted.

67. It is further ordered that, pursuant to applicable procedures set forth in §§ 1.415 and 1.419 of the Commission's rules, 47 CFR 1.415 and 1.419, interested parties may file comments on the FNPRM on or before 30 days following publication in the Federal Register, and reply comments on or before 60 days following publication in the Federal Register.

68. It is further ordered that the Office of the Secretary, Reference Information Center shall send a copy of this FNPRM, including the Initial Regulatory Flexibility Analysis, to the Chief Counsel for Advocacy of the Small Business Administration.

Federal Communications Commission.
Marlene Dortch,
Secretary.

[FR Doc. 2024-11761 Filed 5-28-24; 8:45 am]

BILLING CODE 6712-01-P